DEPARTMENT OF HEALTH AND HUMAN SERVICES

Centers for Disease Control and Prevention

[30Day-24-1333]

Agency Forms Undergoing Paperwork Reduction Act Review

In accordance with the Paperwork Reduction Act of 1995, the Centers for Disease Control and Prevention (CDC) has submitted the information collection request titled “Feeding My Baby and Me: Infant Feeding Practices Study III (FMB&M-IFPS III)” to the Office of Management and Budget (OMB) for review and approval. CDC previously published a “Proposed Data Collection Submitted for Public Comment and Recommendations” notice on June 9, 2023 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Feeding My Baby and Me: Infant Feeding Practices Study III (OMB Control No. 0920-1333, Exp. 4/30/2024)—Extension—National Center for Chronic Disease Prevention and Health Promotion (NCCDPHP), Centers for Disease Control and Prevention (CDC).

Background and Brief Description

A child's first two years of life can have profound impacts on their later dietary behaviors and health outcomes. Early feeding behaviors (e.g., breastfeeding, timing of complementary food introduction, intake of different foods and beverages such as fruits, vegetables, sugar sweetened beverages, and maternal and infant feeding styles) can play a role in the establishment of later dietary behaviors and may be associated with health outcomes (e.g., risk of infections, obesity, and weight gain). However, limited data is available to track how prenatal and maternal practices impact infant feeding and health in the early years of life. Findings from the Feeding My Baby and Me: Infant Feeding Practices Study III (FMB&M-IFPS III) will be used to fill research gaps on how feeding behaviors, patterns, and practices change over the first two years of life and the health-related impacts; inform multiple Federal agency efforts targeting maternal and infant and toddler nutrition through work in hospitals, with health care providers, with early care and education providers, and outreach to families and caregivers; and provide context to documents such as the U.S. Dietary Guidelines for Americans, which will include pregnant women and children birth to 24 months of age for the first time in 2020-2025.

CDC requests an Extension of an existing information collection designed to address current gaps in knowledge and strengthen programmatic efforts aimed at promoting optimal nutrition and health in children less than two years of age. FMB&M-IFPS III will be a longitudinal study of pregnant women and their new baby for two years. Throughout the study planning period, CDC engaged with subject matter experts from multiple Federal agencies including the National Institutes of Health (NIH), the U.S. Department of Agriculture (USDA), and the Food and Drug Administration (FDA) to ensure that FMB&M-IFPS III applies lessons learned from previous studies and represents the priorities and needs of numerous stakeholders. The new study design is based on updated methodology and questions, and recruitment of a new cohort of study participants.

CDC will collect information about mother's intentions, behaviors, feeding decisions, and practices from pregnancy through their child's first two years of life and how these change; child health outcomes; and emerging issues related to infant and toddler feeding practices. Data will be collected using web-based surveys at multiple time points. This includes: (1) a prenatal survey; (2) 14 follow-up surveys after the baby is born; and (3) 2-4 maternal dietary data recalls. CDC estimates that 7,477 pregnant women, ages 18-49, must be screened in order to obtain complete data on 2,500 study participants. The goal is to recruit equal proportions of non-Hispanic white, non-Hispanic black, and Hispanic participants. An OMB Extension is requested for one year. CDC requests OMB approval for an estimated 5,051 annualized burden hours. Participation is voluntary, and there are no costs to respondents other than their time.

Estimated Annualized Burden Hours

Type of respondents | Form name | Number of respondents | Number of responses per respondent | Average burden per response (in hours)
Pregnant/Postpartum Women | Study Screener Study Consent | 2,492 1,570 | 1 1 | 3/60 5/60
| Prenatal Survey | 1,413 | 1 | 20/60
| 24-Hour Dietary Recall—Prenatal | 919 | 1 | 24/60
| Replicate 24-Hour Dietary Recall—Prenatal | 90 | 1 | 24/60
| Request for notification of child's birth | 1,413 | 1 | 2/60
| Birth Screener | 1,368 | 1 | 2/60
| 1-Month Survey | 1,231 | 1 | 20/60
| 2-Month Survey | 1,192 | 1 | 15/60
| 3-Month Survey | 1,153 | 1 | 15/60
| 24-Hour Dietary Recall—Month 3 | 750 | 1 | 24/60
| Replicate 24-Hour Dietary Recall—Month 3 | 73 | 1 | 24/60
| 4-Month Survey | 1,117 | 1 | 15/60
| 5-Month Survey | 1,081 | 1 | 15/60
| 6-Month Survey | 1,046 | 1 | 15/60
| 8-Month Survey | 1,013 | 1 | 15/60
| 10-Month Survey | 980 | 1 | 20/60
| 12-Month Survey | 949 | 1 | 15/60
| 15-Month Survey | 919 | 1 | 15/60
| 18-Month Survey | 889 | 1 | 15/60
| 21-Month Survey | 861 | 1 | 15/60
| 24-Month Survey | 833 | 1 | 15/60

Jeffrey M. Zirger,
Lead, Information Collection Review Office, Office of Scientific Integrity, Office of Science, Centers for Disease Control and Prevention.

[FR Doc. 2023-22780 Filed 10-13-23; 8:45 am]

BILLING CODE 4163-18-P